DEPARTMENT OF LABOR

Employment and Training Administration

[TA-W-70,143]

JL French Automotive Castings, LLC, Including On-Site Leased Workers From Labor Ready and Seek Staffing, Sheboygan, WI; Amended Certification Regarding Eligibility To Apply for Worker Adjustment Assistance

In accordance with Section 223 of the Trade Act of 1974, as amended (“Act”), 19 U.S.C. 2273, the Department of Labor issued a Certification of Eligibility to Apply for Worker Adjustment Assistance on November 4, 2009, applicable to workers of JL French Automotive Castings LLC, including on-site leased workers Labor Ready, Sheboygan, Wisconsin. The Department's Notice of determination was published in the Federal Register on January 25, 2010 (75 FR 3935).

At the request of the state, the Department reviewed the certification for workers of the subject firm. The workers are engaged in activities related to the production of aluminum die cast parts.

The company reports that workers leased from Seek Staffing, were employed on-site at the Sheboygan, Wisconsin location of JL French Automotive Castings LLC. The Department has determined that these workers were sufficiently under the control of the subject firm to be considered leased workers.

Based on these findings, the Department is amending this certification to include workers leased from Seek Staffing, working on-site at the Sheboygan, Wisconsin location of JL French Automotive Castings LLC.

The amended notice applicable to TA-W-70,143 is hereby issued as follows:

All workers of JL French Automotive Castings LLC, including on-site leased workers from Labor Ready and Seek Staffing, Sheboygan, Wisconsin, who became totally or partially separated from employment on or after May 18, 2008, through November 4, 2011, and all workers in the group threatened with total or partial separation from employment on the date of certification through two years from the date of certification, are eligible to apply for adjustment assistance under Chapter 2 of Title II of the Trade Act of 1974, as amended.

Signed at Washington, DC this 13th day of August 2010.
Del Min Amy Chen,
Certifying Officer, Division of Trade Adjustment Assistance.

[FR Doc. 2010-28483 Filed 11-10-10; 8:45 am]

BILLING CODE 4510-FN-P